INTERNATIONAL TRADE COMMISSION

[Investigation Nos. 701-TA-561 and 731-TA-1317-1318, 1321-1325, and 1327 (Final)]

Carbon and Alloy Steel Cut-to-Length Plate From Austria, Belgium, France, Germany, Italy, Japan, Korea, and Taiwan: Supplemental Schedule for the Subject Investigations.

AGENCY: International Trade Commission.

ACTION: Notice.

DATES: This notice is effective as of April 4, 2017.

FOR FURTHER INFORMATION CONTACT: Carolyn Carlson (202-205-3002), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective September 16, 2016, the Commission established a general schedule for the conduct of the final phase of its investigations on carbon and alloy steel cut-to-length plate from twelve countries.¹ The Department of Commerce's preliminary determinations for imports from the eight countries identified above were published on September 14, 2016 and November 14, 2016.² The Department of Commerce's amended preliminary determinations on imports of carbon and alloy steel cut-to-length plate from France and Germany were published on November 29, 2016 and December 2, 2016.³ The Department of Commerce's corrected amended preliminary determination on imports of carbon and alloy steel cut-to-length plate from France was published on December 15, 2016.⁴ The Department of Commerce's final determinations for imports from the eight countries identified above were published on April 4, 2017.⁵ The Commission, therefore, is issuing a supplemental schedule for its investigations on imports of carbon and alloy steel cut-to-length plate from Austria, Belgium, France, Germany, Italy, Japan, Korea, and Taiwan.

¹ Carbon and Alloy Steel Cut-to-Length Plate From Austria, Belgium, Brazil, China, France, Germany, Italy, Japan, Korea, South Africa, Taiwan, and Turkey; Scheduling of the Final Phase of Countervailing and Antidumping Duty Investigations, 81 FR 70440, October 12, 2016.

² Certain Carbon and Alloy Steel Cut-to-Length Plate From the Republic of Korea: Preliminary Negative Countervailing Duty Determination and Alignment of Final Determination With Final Antidumping Duty Determination, 81 FR 63168, September 14, 2016; Certain Carbon and Alloy Steel Cut-To-Length Plate From Austria: Preliminary Determination of Sales at Less Than Fair Value and Postponement of the Final Determination, 81 FR 79416, November 14, 2016; Certain Carbon and Alloy Steel Cut-To-Length Plate From Belgium: Preliminary Determination of Sales at Less Than Fair Value and Postponement of Final Determination, 81 FR 79431, November 14, 2016; Certain Carbon and Alloy Steel Cut-To-Length Plate From France: Preliminary Determination of Sales at Less Than Fair Value and Postponement of Final Determination, 81 FR 79437, November 14, 2016; Certain Carbon and Alloy Steel Cut-To-Length Plate From the Federal Republic of Germany: Preliminary Determination of Sales at Less Than Fair Value and Postponement of Final Determination, 81 FR 79446, November 14, 2016; Certain Carbon and Alloy Steel Cut-To-Length Plate From Italy: Preliminary Determination of Sales at Less Than Fair Value, Affirmative Determination of Critical Circumstances, and Postponement of Final Determination, 81 FR 79423, November 14, 2016; Certain Carbon and Alloy Steel Cut-To-Length Plate From Japan: Preliminary Determination of Sales at Less Than Fair Value and Postponement of Final Determination, 81 FR 79427, November 14, 2016; Certain Carbon and Alloy Steel Cut-To-Length Plate From the Republic of Korea: Preliminary Determination of Sales at Less Than Fair Value and Postponement of Final Determination, 81 FR 79441, November 14, 2016; Certain Carbon and Alloy Steel Cut-To-Length Plate From Taiwan: Preliminary Determination of Sales at Less Than Fair Value, 81 FR 79420, November 14, 2016.

³ Certain Carbon and Alloy Steel Cut-To-Length Plate From the Federal Republic of Germany: Amended Preliminary Determination of Sales at Less Than Fair Value, 81 FR 85930, November 29, 2016; Certain Carbon and Alloy Steel Cut-to-Length Plate From France: Amended Preliminary Determination of Sales at Less Than Fair Value, 81 FR 87019, December 2, 2016.

⁴ Certain Carbon and Alloy Steel Cut-to-Length Plate From France: Correction to the Amended Preliminary Determination of Sales at Less Than Fair Value, 81 FR 90780, December 15, 2016.

⁵ Certain Carbon and Alloy Steel Cut-To-Length Plate From the Republic of Korea: Final Affirmative Countervailing Duty Determination and Final Negative Critical Circumstances Determination, 82 FR 16341, April 4, 2017; Certain Carbon and Alloy Steel Cut-To-Length Plate From Austria: Final Determination of Sales at Less Than Fair Value and Final Affirmative Determination of Critical Circumstances, 82 FR 16366, April 4, 2017; Certain Carbon and Alloy Steel Cut-To-Length Plate From Belgium: Final Determination of Sales at Less Than Fair Value and Final Determination of Critical Circumstances, in Part, 82 FR 16378, April 4, 2017; Certain Carbon and Alloy Steel Cut-to-Length Plate From France: Final Determination of Sales at Less Than Fair Value, 82 FR 16363, April 4, 2017; Certain Carbon and Alloy Steel Cut-to-Length Plate From the Federal Republic of Germany: Final Determination of Sales at Less Than Fair Value, 82 FR 16360, April 4, 2017; Certain Carbon and Alloy Steel Cut-to-Length Plate From Italy: Final Determination of Sales at Less Than Fair Value and Final Affirmative Determination of Critical Circumstances, 82 FR 16345, April 4, 2017; Certain Carbon and Alloy Steel Cut-to-Length Plate From Japan: Final Determination of Sales at Less Than Fair Value, 82 FR 16349, April 4, 2017; Certain Carbon and Alloy Steel Cut-To-Length Plate From the Republic of Korea: Final Determination of Sales at Less Than Fair Value and Final Negative Critical Circumstances Determination, 82 FR 16369, April 4, 2017; Certain Carbon and Alloy Steel Cut-To-Length Plate From Taiwan: Final Determination of Sales at Less Than Fair Value and Final Negative Determination of Critical Circumstances, 82 FR 16372, April 4, 2017.

The Commission's supplemental schedule is as follows: The deadline for filing supplemental party comments on Commerce's final determinations is April 12, 2017; the staff report in the final phase of these investigations will be placed in the nonpublic record on April 24, 2017; and a public version will be issued thereafter.

Supplemental party comments may address only Commerce's final determinations regarding imports from Austria, Belgium, France, Germany, Italy, Japan, Korea, and Taiwan. These supplemental final comments may not contain new factual information and may not exceed five (5) pages in length.

For further information concerning these investigations see the Commission's notice cited above and the Commission's Rules of Practice and Procedure, part 201, subparts A and B (19 CFR part 201), and part 207, subparts A and C (19 CFR part 207).

Authority: These investigations are being conducted under authority of title VII of the Tariff Act of 1930; this notice is published pursuant to section 207.21 of the Commission's rules.

By order of the Commission.
Issued: April 6, 2017
Lisa R. Barton,
Secretary to the Commission.

[FR Doc. 2017-07292 Filed 4-11-17; 8:45 am]

BILLING CODE 7020-02-P